DEPARTMENT OF COMMERCE

International Trade Administration

[C-351-846, C-580-884, C-489-827]

Certain Hot-Rolled Steel Flat Products From Brazil, the Republic of Korea, and Turkey: Postponement of Preliminary Determinations in the Countervailing Duty Investigations

AGENCY: Enforcement and Compliance, International Trade Administration, Department of Commerce.

DATES: Effective Date: October 21, 2015.

FOR FURTHER INFORMATION CONTACT: Sergio Balbontin at (202) 482-6478 (Brazil); Katie Marksberry at (202) 482-7906 (Republic of Korea); Emily Halle at (202) 482-0176 (Turkey), AD/CVD Operations, Enforcement and Compliance, U.S. Department of Commerce, 14th Street and Constitution Avenue NW., Washington, DC 20230.

SUPPLEMENTARY INFORMATION:

Background

On August 31, 2015, the Department of Commerce (the Department) initiated countervailing duty (CVD) investigations of imports of certain hot-rolled steel flat products (hot-rolled steel) from Brazil, the Republic of Korea (Korea), and Turkey.¹ The notice of initiation stated that, in accordance with section 703(b)(1) of the Tariff Act of 1930, as amended (the Act), and 19 CFR 351.205(b)(1), we would issue our preliminary determinations no later than 65 days after the date of initiation, unless postponed. Currently, the preliminary determinations in these investigations are due no later than November 4, 2015.

¹ See Certain Hot-Rolled Steel Flat Products From Brazil, the Republic of Korea, and Turkey: Initiation of Countervailing Duty Investigations, 80 FR 54267 (September 9, 2015).

Postponement of Preliminary Determinations

Section 703(c)(1)(B) of the Act permits the Department to postpone the time limit for the preliminary determination if it concludes that the parties concerned are cooperating and determines that the case is extraordinarily complicated by reason of the number and complexity of the transactions to be investigated or adjustments to be considered, the novelty of the issues presented, or the number of firms whose activities must be investigated, and additional time is necessary to make the preliminary determination. Under this section of the Act, the Department may postpone the preliminary determination until no later than 130 days after the date on which the Department initiated the investigation.

The Department determines that the parties involved in these hot-rolled steel CVD investigations are cooperating, and that the investigations are extraordinarily complicated. Additional time is required to analyze the questionnaire responses and issue appropriate requests for clarification and additional information.

Therefore, in accordance with section 703(c)(1)(B) of the Act and 19 CFR 351.205(f)(1), the Department is postponing the time period for the preliminary determinations of these investigations by 65 days, to January 8, 2016. Pursuant to section 705(a)(1) of the Act and 19 CFR 351.210(b)(1), the deadline for the final determinations will continue to be 75 days after the date of the preliminary determinations.

This notice is issued and published pursuant to section 703(c)(2) of the Act and 19 CFR 351.205(f)(1).

Dated: October 15, 2015.
Paul Piquado,
Assistant Secretary for Enforcement and Compliance.

[FR Doc. 2015-26775 Filed 10-20-15; 8:45 am]

BILLING CODE 3510-DS-P